OFFICE OF MANAGEMENT AND BUDGET

Draft Report to Congress on the Benefits and Costs of Federal Regulations and Agency Compliance With the Unfunded Mandates Reform Act

AGENCY: Office of Management and Budget, Executive Office of the President.

ACTION: Notice of availability and request for comments.

SUMMARY: The Office of Management and Budget (OMB) requests comments on its Draft Report to Congress on the Benefits and Costs of Federal Regulations and Agency Compliance with the Unfunded Mandates Reform Act, available at: https://www.whitehouse.gov/omb/information-regulatory-affairs/reports/. The Draft Report is divided into two parts, the first of which is further divided into several chapters. Part I's Chapter I examines the benefits and costs of major Federal regulations issued in fiscal years 2020, 2021 and 2022. Chapter II discusses regulatory impacts on State, Local, and tribal governments, small business, wages and employment, and economic growth. Chapter III offers recommendations for regulatory reform. Part II summarizes agency compliance with the Unfunded Mandates Reform Act. OMB requests that comments be submitted electronically to OMB by December 15, 2023, through www.regulations.gov using Docket ID OMB-2023-0019.

DATES: To ensure consideration of comments as OMB prepares this Draft Report for submission to Congress, comments must be in writing and received by December 15, 2023.

ADDRESSES: Submit comments by one of the following methods:

• www.regulations.gov: Direct comments to Docket ID OMB-2023-0019.

• Fax: (202) 395-7285.

• Mail: Office of Information and Regulatory Affairs, Office of Management and Budget, New Executive Office Building, 9th Floor, 725 17th Street NW, Washington, DC 20503. To ensure that your comments are received timely, we recommend that comments on this draft report be electronically submitted.

Privacy Act Statement: Submission of comments is voluntary. The information received will be used to inform sound decision making. Please note that all comments submitted in response to this notice may be posted or released in their entirety, including any personal and business confidential information provided. For this reason, please do not include in your comments information of a confidential nature, such as sensitive personal information or proprietary information. The OMB System of Records Notice, OMB Public Input System of Records, OMB/INPUT/01, includes a list of routine uses associated with the collection of this information. The www.regulations.gov website is an “anonymous access” system, which means OMB will not know your identity or contact information unless you provide it in the body of your comment.

FOR FURTHER INFORMATION CONTACT: MBX.OMB.OIRA.BC_Report_Questions@omb.eop.gov.

SUPPLEMENTARY INFORMATION: Congress directed the Office of Management and Budget to prepare an annual Report to Congress on the Benefits and Costs of Federal Regulations. Specifically, Section 624 of Title IV of the FY 2001 Treasury and General Government Appropriations Act, also known as the “Regulatory Right-to-Know Act” (the Act), requires OMB to submit a report on the benefits and costs of Federal regulations together with recommendations for reform. The Act states that the report should contain estimates of the costs and benefits of regulations in the aggregate, by agency and agency program, and by major rule, as well as an analysis of impacts of Federal regulation on State, local, and tribal governments, small businesses, wages, and economic growth. The Act also states that the report should be subject to notice and comment and peer review. OIRA requests public comments on the report in general, including its substance and format; how to improve transparency and accountability with respect to the effects of regulation; and the various recommendations for reform.

Richard L. Revesz,
Administrator, Office of Information and Regulatory Affairs.

[FR Doc. 2023-23725 Filed 10-27-23; 8:45 am]

BILLING CODE 3110-01-P